DEPARTMENT OF ENERGY

Federal Energy Regulatory Commission

[Docket No. EC02-74-000, et al.]

Madison Windpower LLC, et al.; Electric Rate and Corporate Regulation Filings

June 17, 2002.

The following filings have been made with the Commission. The filings are listed in ascending order within each docket classification.

1. Madison Windpower LLC

[Docket No. EC02-74-000]

Take notice that on June 12, 2002, Madison Windpower LLC (Madison), tendered for filing, pursuant to Section 203 of the Federal Power Act, 16 U.S.C. § 824b (1994), and Part 33 of the Commission's regulations, 18 CFR Part 33, an application to authorize a change in Madison's upstream ownership resulting from a proposed intra-corporate reorganization whereby Madison will become a direct, wholly-owned subsidiary of San Gorgonio Power Corporation.

Comment Date: July 3, 2002.

2. PSEG Power Cross Hudson Corporation

[Docket No. EL02-98-000]

Take notice that on June 12, 2002, PSEG Power Cross Hudson Corporation (Cross Hudson) filed with the Federal Energy Regulatory Commission (Commission) a Petition for Declaratory Order pursuant to 18 CFR 385.207. The declaration that Cross Hudson seeks is required to prevent a conflict between the Commission's open-access policies on generator interconnections and state regulation that threatens imminently to encroach upon and conflict with those policies.

Comment Date: July 8, 2002.

3. Baja California Power, Inc.

[Docket No. EL02-99-000]

Take notice that on June 7, 2002, Baja California Power, Inc. (BCP) filed a request for waiver of the requirements of Order No. 888 and Order No. 889 pursuant to 18 CFR 35.28(d) of the Federal Energy Regulatory Commission's (the Commission) Regulations.

Comment Date: July 10, 2002.

4. Sprague Energy Corp.

[Docket No. ER02-1499-0014]

Take notice that on June 7, 2002, Sprague Energy Corp. filed with the Federal Energy Regulatory Commission a compliance filing in response to the Commission's May 22, 2002 order in the above-referenced proceeding. On June 13, 2002, a copy correcting typographical errors was submitted. Copies of the filings were served on each person on the Secretary's official service list in this proceeding.

Comment Date: June 28, 2002.

5. Oncor Electric Delivery Company

[Docket No. ER02-1654-001]

Take notice that on June 10, 2002, Oncor Electric Delivery Company (Oncor) tendered for filing its: Eighth Revised Tariff for Transmission Service To, From and Over Certain Interconnections to modify the tariff to include Oncor's Valley Switching Station as a point of interconnection for which Oncor provides wholesale transmission service under the tariff; and the ERCOT Standard Generation Interconnection Agreement between Oncor and Kiowa Power Partners, LLC modified as directed by the Commission, this filing is being made in compliance with the Commission's May 31, 2002 order in Docket No. ER02-1654-000 99 FERC ¶ 61,251.

Oncor states that this filing has been served upon each party to Docket No. ER02-1654-000 and the Public Utility Commission of Texas.

Comment Date: July 1, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-15820 Filed 6-21-02; 8:45 am]

BILLING CODE 6717-01-P